POSTAL SERVICE

39 CFR Part 111

Temporary Mail Forwarding Policy

AGENCY: Postal Service.

ACTION: Final rule.

SUMMARY: The Postal Service published an interim rule and request for comment on amendments to the standards in the Mailing Standards of the United States Postal Service, Domestic Mail Manual (DMM) concerning temporary change of address orders. The Postal Service is adopting the interim rule with clarifying revisions.

DATES: Effective Date: October 10, 2007.

FOR FURTHER INFORMATION CONTACT: Charles B. Hunt, Product Management, (901) 681-4651, James Wilson, Address Management, (901) 681-4676.

SUPPLEMENTARY INFORMATION: On July 7, 2006, the Postal Service published an interim final rule in the Federal Register revising the DMM standards concerning the duration and submission of change of address orders. 71 FR 38537. The notice also invited public comment concerning the changes. The Postal Service received five customer comments on the revisions.

Four of the comments oppose the establishment of a six month limit on the duration of the initial temporary change-of-address order, stating their preference for a longer period such as seven or eight months if not the current period of up to one year. Some commenters appeared to misunderstand the new rule, believing that it reduces the amount of time for temporary change-of-address service from one year to six months. Others, not appearing to have this misunderstanding, based their comments on the inconvenience of submitting a second temporary change order.

As explained in the interim rule, the change does not reduce the maximum time for which customers can obtain temporary change-of-address service, which remains up to one year. The change only requires customers to submit a second request if they need the service for more than six months. Since the majority (approximately 62 percent) of all temporary change-of-address requests are for less than six months, most requests will not be affected by the new policy. We realize that some customers may be inconvenienced by the requirement to submit a second request to extend their forwarding order. However, we will minimize the inconvenience by sending customers a reminder to submit a second temporary forwarding request if they desire additional forwarding time. We believe that limiting initial requests to six months will benefit customers who inadvertently fail to state an ending date on a temporary change of address order.

Two commenters opposed extending the minimum duration of temporary change of address orders. One suggested that service be provided for shorter time periods for a fee, while the other suggested customers be required to submit the requests far enough in advance to permit them to be processed in time in order to be applied to the shorter period.

As explained in the interim rule, the time needed to process and redirect the mail of temporary change-of-address orders may approach two weeks. Accordingly, the acceptance of short-term forwarding orders results in instances where mail does not arrive prior to the date the customer leaves the temporary address. This mail must be redirected again to the permanent address, resulting in additional handling by the Postal Service and delay in receipt of mail for the customer. The imposition of a fee for short-term temporary change-of-address service would not alter this pattern. Furthermore, while the Postal Service encourages customers to file change-of-address orders in advance of their move, it cannot, as a practical matter, require customers to submit them by a specific date since circumstances may require temporary moves on the part of a customer with little advance notice.

Accordingly, for the reasons explained here as well as in the interim rule, the Postal Service adopts the interim rule as a final rule with the additional changes discussed below. These changes are based on review of the comments and further internal consideration of the standards.

The additional changes to DMM 507.2.1.3 adopted in this final rule are intended to clarify the time periods for temporary change of address orders. That is, the revisions provide more precise information for customers by also expressing the periods in days. Accordingly, the changes state the minimum duration for a change of address order is 15 days; the maximum duration for the initial change of address order is 185 days; and the maximum duration for the additional change of address order is 179 days. A customer seeking the longest duration for temporary change of address, can accordingly submit an initial order for 185 days and a second order for 179 more days, thus reaching the maximum period of 364 days.

The Postal Service adopts the following revisions of the DMM, incorporated by reference in the Code of Federal Regulations. See 39 CFR 111.1, 111.4.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 39 U.S.C. 101, 401, 403, 404, 414, 416, 3001-3011, 3201-3219, 3403-3406, 3621, 3626, 5001.

2. Amend the following sections of the Mailing Standards of the United States Postal Service, Domestic Mail Manual (DMM) set forth below:

500 Additional Mailing Services

* * * * *

507 Mailer Services

* * * * *

2.0 Forwarding

2.1 Change-of-Address Order

* * * * *

2.1.3 Temporary Forwarding

[Revise paragraph in 2.1.3 as follows:]

A customer temporarily moving away may have mail forwarded for a specific period of time, not to exceed 12 months (364 total consecutive days). The Postal Service provides temporary forwarding service for a period of two weeks to six months (15 to 185 days) in response to an initial temporary change-of-address order. Customers may extend the temporary forwarding period up to a maximum of 12 months (364 days), by filing a second change-of-address order to begin on the first day of the second six-month period (the 186th day) and expiring on the desired date, up to and including the last day of the second six-month period (364th day). Every temporary change-of-address order must specify both beginning and end dates.

* * * * *

An appropriate amendment to 39 CFR 111.3 will be published to reflect these changes.

Neva Watson,
Attorney, Legislation.

[FR Doc. E7-19875 Filed 10-9-07; 8:45 am]

BILLING CODE 7710-12-P